NATIONAL SCIENCE FOUNDATION

Advisory Committee for Social, Behavioral and Economic Sciences; Notice of Meeting

In accordance with the Federal Advisory Committee Act (Pub. L. 92-463, as amended), the National Science Foundation (NSF) announces the following meeting:

Name and Committee Code: Advisory Committee for Social, Behavioral and Economic Sciences (#1171) (Virtual).

Date and Time: June 4, 2020; 11:00 a.m.-4:20 p.m. (EDT).

Place: NSF, 2415 Eisenhower Avenue, Alexandria, VA 22314. Virtual AC Meeting via Zoom. Advance registration is required: https:/nsf.zoomgov.com/webinar/register/WN_7z9g-vrtR_yti-mV4xUdsw.

View Real-Time Captions During the Meeting: https://www.captionedtext.com/client/event.aspx?EventID=4439649&CustomerID=321. Enter confirmation number, 4439649.

Type of Meeting: Open.

Contact Person: Dr. Deborah Olster, Office of the Assistant Director, Directorate for Social, Behavioral and Economic Sciences; National Science Foundation, 2415 Eisenhower Avenue, Alexandria, VA 22314; Telephone: (703) 292-8700.

Summary of Minutes: Will be available on SBE advisory committee website at: https://www.nsf.gov/sbe/advisory.jsp.

Purpose of Meeting: To provide advice and recommendations to the National Science Foundation on major goals and policies pertaining to Social, Behavioral and Economic Sciences Directorate (SBE) programs and activities.

Agenda

• Welcome, Introductions, Approval of Previous AC Meeting Summary

• SBE Update

• Build and Broaden: Enabling New Social, Behavioral and Economic Science Collaborations With Minority-Serving Institutions

• Strengthening American Infrastructure

• Societal Experts Action Network

• Science and Engineering Indicators: Highlight

• National Institutes of Health Activities Related to COVID-19

• Exploring Collaboration Between SBE and the Directorate for Computer & Information Science & Engineering (CISE) (Jointly With CISE AC)

• SBE AC Member Research Presentations

• Farewell to and Reflections From Outgoing SBE AC Chair

• Wrap-Up, Assignments, Closing Remarks

Dated: May 18, 2020.
Crystal Robinson,
Committee Management Officer.

[FR Doc. 2020-11014 Filed 5-21-20; 8:45 am]

BILLING CODE 7555-01-P